DEPARTMENT OF COMMERCE

National Oceanic and Atmospheric Administration

[RTID 0648-XC648]

North Pacific Fishery Management Council; Public Meeting

AGENCY: National Marine Fisheries Service (NMFS), National Oceanic and Atmospheric Administration (NOAA), Commerce.

ACTION: Notice of a public hybrid meeting.

SUMMARY: The North Pacific Fishery Management Council (Council) Partial Coverage Fishery Monitoring Advisory Committee (PCFMAC) will meet January 31, 2023.

DATES: The meeting will be held on Tuesday, January 31, 2023, from 9 a.m. to 5 p.m., PST.

ADDRESSES: The meeting will be a hybrid meeting. The in-person component of the meeting will be held at the Alaska Fishery Science Center in the Traynor Room (2076), 7600 Sand Point Way, NE, Building 4, Seattle, WA 98115, or join the meeting online through the links at https://meetings.npfmc.org/Meeting/Details/2973.

Council address: North Pacific Fishery Management Council, 1007 W 3rd Ave, Anchorage, AK 99501-2252; telephone: (907) 271-2809. Instructions for attending the meeting are given under SUPPLEMENTARY INFORMATION, below.

FOR FURTHER INFORMATION CONTACT: Sara Cleaver, Council staff; telephone: (907) 271-2809; email: sara.cleaver@noaa.gov. For technical support, please contact our administrative staff; email: npfmc.admin@noaa.gov.

SUPPLEMENTARY INFORMATION:

Agenda

Tuesday, January 31, 2023

The PCFMAC agenda will include: (a) status update on the cost efficiencies analysis; (b) public comment; and (c) other issues and future scheduling. The agenda is subject to change, and the latest version will be posted at https://meetings.npfmc.org/Meeting/Details/2973 prior to the meeting, along with meeting materials.

Connection Information

You can attend the meeting online using a computer, tablet, or smartphone; or by phone only. Connection information will be posted online at: https://meetings.npfmc.org/Meeting/Details/2973.

Public Comment

Public comment letters should be submitted electronically via the electronic agenda at https://meetings.npfmc.org/Meeting/Details/2973.

Authority: 16 U.S.C. 1801 et seq.

Dated: January 9, 2023.
Rey Israel Marquez,
Acting Deputy Director, Office of Sustainable Fisheries, National Marine Fisheries Service.

[FR Doc. 2023-00539 Filed 1-12-23; 8:45 am]

BILLING CODE 3510-22-P